DEPARTMENT OF COMMERCE

National Institute of Standards and Technology

[Docket No. 060616172-6172-01]

Privacy Act of 1974: System of Records

ACTION: Notice of Amendment of Privacy Act System of Records: COMMERCE/NIST-7, NIST Emergency Locator System.

SUMMARY: In accordance with the Privacy Act of 1974, as amended, 5 U.S.C. 552a(e)(4) and (11), the Department of Commerce is issuing notice of intent to amend the system of records under COMMERCE/NIST-7, NIST Emergency Locator System to include the name change of the National Bureau of Standards (NBS) to the National Institute of Standards and Technology (NIST); update internal organizational unit names, contacts, locations; and reflect more current system descriptions.

DATES: To be considered, written comments must be submitted on or before July 2, 2007. Unless comments are received, the amendments to the system of records will become effective as proposed on the date of publication of a subsequent notice in the Federal Register.

FOR FURTHER INFORMATION CONTACT: Benjamin Overbey, Emergency Services Division, National Institute of Standards and Technology, Gaithersburg, MD 20899-3590.

SUPPLEMENTARY INFORMATION: In 1989 the name of the National Bureau of Standards (NBS) was changed to the National Institute of Standards and Technology (NIST). This system is updated to reflect that name change, along with updating internal organizational unit names; contacts; locations; and system descriptions.

COMMERCE/NIST-7

System Name:

NIST Emergency Locator System.

Security Classification:

None.

System Location:

Emergency Services Division, Director for Administration and Chief Financial Officer, National Institute of Standards and Technology, Gaithersburg, MD 20899-3590, Police Services Group, Fire Protection Services Group, Health Physics Group; National Institute of Standards and Technology, Boulder, Colorado.

Categories of Individuals Covered by the System:

NIST employees and other authorized individuals using NIST facilities.

Categories of Records in the System:

Names and home telephone numbers.

Authority for Maintenance of the System:

5 U.S.C. 301 and 15 U.S.C. 271 et seq.

Routine Uses of Records Maintained in the System, Including Categories of Users and the Purposes of Such Uses:

1. Home telephone numbers will be used by management officials to contact NIST employees or authorized individuals using NIST facilities in case of an emergency (e.g., fire, explosion, power outage, heavy snow). Those contacted will typically be scientists or engineers whose experiments might be affected by such as emergency or other employees who will be required to deal with the emergency.

2. A record in this system of records may be disclosed to a Member of Congress submitting a request involving an individual when the individual has requested assistance from the Member with respect to the subject matter of the record.

3. A record in this system of records may be disclosed to the Department of Justice in connection with determining whether disclosure thereof is required by the Freedom of Information Act (5 U.S.C. 552).

4. A record in this system of records may disclosed to a contractor of the Department having need for the information in the performance of the contract, but not operating a system or records within the meaning of 5 U.S.C. 552a(m).

5. A record in this system may be transferred to the Office of Personnel Management: for personnel research purposes; as a data source for management information; for the production of summary descriptive statistics and analytical studies in support of the function for which the records are collected and maintained; or for related manpower studies.

6. A record from this system of records may be disclosed to the Administrator, General Services, or designee, during an inspection of records conducted by GSA as part of that agency's responsibility to recommend improvements in records management practices and programs under authority of 44 U.S.C. 2904 and 2906. Such disclosure shall be made in accordance with the GSA regulations governing inspection of records for this purpose, and any other relevant (i.e., GSA or Commerce) directive. Such disclosure shall not be used to make determinations about individuals.

Policies and Practices for Storing, Retrieving, Accessing, Retaining, and Disposing of Records in the System:

Storage:

Paper and electronic.

Retrievability:

Building, room number, and organizational unit number.

Safeguards:

Paper records will be kept in locked file cabinets with limited access; machine-readable records will be limited access with security key required.

Retention and Disposal:

Records will be updated every six months or more frequently.

System Manager(s) and Address:

Chief, Emergency Services Division, Office of the Director for Administration and Chief Financial Officer, National Institute of Standards and Technology, Gaithersburg, MD 20899-3590.

Notification Procedure:

Information may be obtained from: Chief, Management and Organization Division, National Institute of Standards and Technology, Gaithersburg, MD 20899-3220. Requester should provide name and additional factual data, as appropriate, pursuant to the inquiry provisions of the Department's rules, which appear in 15 CFR part 4.

Records Access Procedures:

Requests from individuals should be addressed to same address as stated in the Notification Section above.

Contesting Records Procedures:

The Department's rules for access, for contesting contents, and appealing initial determinations by the individual concerned appear in 15 CFR part 4. Use above address.

Records Source Categories:

Subject individual and those authorized by the individual to furnish information.

Exemptions Claimed for the System:

None.

Dated: May 24, 2007.
Brenda Dolan,
Department of Commerce, Freedom of Information/Privacy Act Officer.

[FR Doc. E7-10578 Filed 5-31-07; 8:45 am]

BILLING CODE 3510-13-P